DEPARTMENT OF TRANSPORTATION

Federal Highway Administration

Environmental Impact Statement; Lee and Collier Counties, FL

AGENCY: Federal Highway Administration (FHWA), DOT.

ACTION: Notice of intent.

SUMMARY: The FHWA is issuing this notice to advise the public that an Environmental Impact Statement (EIS) will be prepared for a proposed highway project in Lee and Collier Counties, Florida.

FOR FURTHER INFORMATION CONTACT: Manu Chacko, District Transportation Engineer, Federal Highway Administration, 545 John Knox Road, Suite 200, Tallahassee, Florida 32303, Telephone (850) 942-9650.

SUPPLEMENTARY INFORMATION: The FHWA, in cooperation with the Florida Department of Transportation will prepare an EIS for a proposed improvement to CR 951 in Lee and Collier Counties, Florida. The proposed improvement would involve the construction of a multi-lane facility on new alignment from Immokalee Road in Collier County to Alico Road in Lee County, a distance of approximately 15 miles. Construction of the new corridor is considered necessary to provide for the existing and projected traffic demand.

Alternatives under consideration include (1) taking no action; (2) upgrading existing facilities; and (3) alternate corridors on new alignment location. The proposed build alternatives to be considered consist of a four-lane roadway with either a rural or sub-urban design. Access management alternatives are being evaluated and include either a controlled access arterial or limited access toll facility.

Coordination with appropriate Federal, State, and local agencies, as well as private organizations and citizens who have expressed interest in this proposal has been undertaken and will continue. A series of public meetings have been held in Lee County, Florida from February 2003 to present, and additional meetings are planned for the future in Lee County. In addition, a public hearing will be held. Public notice will be given of the time and place of the meetings and hearing. The DEIS will be made available for public and agency comment. An interagency coordination meeting was held on February 23, 2004. No formal scoping meeting is planned at this time.

To ensure that the full range of issues related to the proposed action is addressed and all significant issues identified, comments and suggestions are invited from all interested parties. Comments or questions concerning this proposed action and the EIS should be directed to the FHWA at the address provided above.

(Catalog of Federal Domestic Assistance Program Number 20.205, Highway Research Planning and Construction. The regulations implementing Executive Order 12372 regarding intergovernmental consultation on Federal programs and activities apply to this program.)

Dated: May 18, 2005
Don Davis,
Program Operations Engineer, Tallahassee, Florida.

[FR Doc. 05-12624 Filed 6-24-05; 8:45 am]

BILLING CODE 4910-22-M